DEPARTMENT OF THE INTERIOR

Bureau of Land Management

[LLNV9230000 L13100000.FI0000 241A; NVN-78597; NVN-85277; NVN-85278; 11-08807; MO#4500019638; TAS: 14x1109]

Notice of Proposed Reinstatement of Terminated Oil and Gas Leases; Nevada

AGENCY: Bureau of Land Management, Interior.

ACTION: Notice.

SUMMARY: The Bureau of Land Management (BLM) received a petition for reinstatement from Makoil, Inc. and Piney Fork Production Co., for competitive oil and gas leases NVN-78597, NVN-85277, and NVN-85278 on land in Nye County, Nevada. The petition was timely filed and was accompanied by all the rentals due since the leases terminated under the law. No valid leases have been issued affecting the lands.

FOR FURTHER INFORMATION CONTACT: Atanda Clark, BLM Nevada State Office, 775-861-6632, or e-mail: Atanda_Clark@blm.gov.

SUPPLEMENTARY INFORMATION: The lessees have agreed to the amended lease terms for rental and royalties at rates of $10 per acre or fraction thereof per year and 16⅔ percent, respectively. The lessees have paid the required $500 administrative fee for each lease and have reimbursed the Department for the cost of this Federal Register notice. The lessees have met all of the requirements for reinstatement of the leases as set out in Section 31(d) and (e) of the Mineral Leasing Act of 1920 [30 U.S.C. 188], and the BLM is proposing to reinstate the leases effective July 1, 2010 under the original terms and conditions of the leases and the increased rental and royalty rates cited above. The BLM has not issued a lease affecting the lands encumbered by these leases to any other interest in the interim.

Authority: 43 CFR 3108.2-3(a) and (b).

Gary Johnson,
Deputy State Director, Minerals Management.

[FR Doc. 2011-8073 Filed 4-4-11; 8:45 am]

BILLING CODE 4310-HC-P